FEDERAL COMMUNICATIONS COMMISSION

[FR ID 141583]

Radio Broadcasting Services; AM or FM Proposals To Change the Community of License

AGENCY: Federal Communications Commission.

ACTION: Notice.

DATES: The agency must receive comments on or before July 24, 2023.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: BRANTLEY BROADCAST ASSOCIATES, LLC, WWTM(AM), Fac. ID No. 54328, FROM DECATUR, AL, TO MOORESVILLE, AL, File No. BMP-20230210AAD; MIRACLE MEDIA GROUP, LLC, WORD(AM), Fac. ID No. 36169, FROM DAYTONA BEACH, FL, TO PORT ORANGE, FL, File No. BP-20230209AAG; ORLANDO RADIO MARKETING, INC., WNDO(AM), Fac. ID No. 1185, FROM APOPKA, FL, TO FAIRVIEW SHORES, FL, File No. BP-20230302AAB; MOBILE PARTNERS, INC., WVNZ(AM), Fac. ID No. 52050, FROM RICHMOND, VA, TO ASHLAND, VA, File No. BP-20230511AAE; LABOR NEIGHBOR RESEARCH & TRAINING CENTER, KCNM(FM), Fac. ID No. 766448, FROM CIMARRON, NM, TO MAXWELL, NM, File No. 0000211871; VCY AMERICA INC., KVLM(FM), Fac. ID No. 71650, FROM LAMESA, TX, TO TARZAN, TX, File No. 0000212959; FAMILY LIFE MINISTRIES, INC., WGCC-FM, Fac. ID No. 23603, FROM BATAVIA, NY, TO KENDALL, NY, File No. 0000213726; WOODARD BROADCASTING CO., INC., WVOK-FM, Fac. ID No. 73609, FROM OXFORD, AL, TO OHATCHEE, AL, File No. 0000213072; MICHAEL RADIO COMPANY, LLC, KLLM(FM), Fac. ID No. 762455, FROM WHEATLAND, WY, TO LARAMIE, WY, File No. 0000205045; and IHM LICENSES, LLC, WFFX(FM), Fac. ID No. 54611, FROM HATTIESBURG, MS, TO MARRERO, LA, File No. 0000214604. The full text of these applications is available electronically via the Consolidated Data Base System (CDBS) https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2023-11105 Filed 5-24-23; 8:45 am]

BILLING CODE 6712-01-P